POSTAL SERVICE

39 CFR Part 20

International Product and Price Changes

AGENCY: Postal Service™.

ACTION: Final rule.

SUMMARY: The Postal Service is revising Mailing Standards of the United States Postal Service, International Mail Manual (IMM®), to reflect the prices, product features, and classification changes to Competitive Services, as established by the Governors of the Postal Service.

DATES: Effective date: January 17, 2016.

FOR FURTHER INFORMATION CONTACT: Paula Rabkin at 202-268-2537.

SUPPLEMENTARY INFORMATION: New prices will be posted under Docket Number CP2016-9 on the Postal Regulatory Commission's Web site at http://www.prc.gov.

This final rule describes the international price and classification changes and the corresponding mailing standards changes for the following Competitive Services:

• Global Express Guaranteed® (GXG®).

• Priority Mail Express International™.

• Priority Mail International®.

• First-Class Package International Service™.

• International Priority Airmail® (IPA®).

• International Surface Air Lift® (ISAL®).

• Direct Sacks of Printed Matter to One Addressee (Airmail M-bags).

• International Extra Services:

• Insurance.

• International Postal Money Orders.

• International Money Order Inquiry Fee.

• International Money Transfer Service.

New prices will be located on the Postal Explorer® Web site at http://pe.usps.com.

Global Express Guaranteed

Global Express Guaranteed (GXG) is the Postal Service's premier international expedited product provided through an alliance with FedEx Express®. The price increase for GXG service averages 7.1 percent.

The Postal Service provides Commercial Base pricing to online customers who prepare and pay for GXG shipments via USPS-approved payment methods (with the exception of Click-N-Ship® service), with a 5 percent discount off the published retail prices for GXG. Customers who prepare GXG shipments via Click-N-Ship service will now pay retail prices.

The Postal Service continues to offer Commercial Plus pricing for large volume customers who commit to tendering $100,000 in annual postal revenue from GXG, Priority Mail Express International, Priority Mail International, and First-Class Package International Service via USPS-approved payment methods. The Postal Service will also continue to include GXG in customized Global Expedited Package Services (GEPS) contracts offered to customers who meet certain revenue thresholds and are willing to commit a larger amount of revenue in international postage.

Priority Mail Express International

Priority Mail Express International (PMEI) service provides fast service to approximately 180 countries. Priority Mail Express International with Money-Back Guarantee service is available for certain destinations. The price increase for Priority Mail Express International service averages 11.6 percent. The Commercial Base price for customers that prepare and pay for Priority Mail Express International shipments via permit imprint, online at USPS.com®, or as registered end-users using an authorized PC Postage vendor (with the exception of Click-N-Ship service) will be 5 percent below the retail price. Customers who prepare Priority Mail Express International shipments via Click-N-Ship service will now pay retail prices. The Postal Service continues to offer Priority Mail Express International Commercial Plus pricing to large volume customers who commit to tendering $100,000 in annual postal revenues from GXG, Priority Mail Express International, Priority Mail International, and First-Class Package International Service. The Postal Service will also continue to include Priority Mail Express International in customized Global Expedited Package Services (GEPS) contracts offered to customers who meet certain revenue thresholds and are willing to commit a larger amount of revenue in international postage.

We are discontinuing the Priority Mail Express International Flat Rate Box. Customers who present items at retail to be mailed in a Priority Mail Express International Flat Rate Box will pay the retail price based on the item's weight and price group.

Priority Mail Express International flat rate pricing continues to be available for Flat Rate Envelopes. New this year, the prices for what was formerly the “all other countries” rate group are being replaced with flat rate prices in seven rate groups, based on geographical regions.

Priority Mail International

Priority Mail International (PMI) is an economical way to send merchandise and documents to about 180 countries. The price increase for Priority Mail International service averages 10.2 percent. The Commercial Base price for customers that prepare and pay for PMI items via permit imprint, online at USPS.com, or as registered end-users using an authorized PC Postage vendor (with the exception of Click-N-Ship service) will be 5 percent below the retail price. Customers who prepare Priority Mail International shipments via Click-N-Ship service will now pay retail prices. The Postal Service continues to offer Priority Mail International Commercial Plus pricing to large volume customers who commit to tendering $100,000 in annual postal revenues from GXG, Priority Mail Express International, Priority Mail International, and First-Class Package International Service. The Postal Service will continue to include Priority Mail International in customized Global Expedited Package Services (GEPS) contracts offered to customers who meet certain revenue thresholds and are willing to commit to a larger amount of revenue to the USPS® for Priority Mail Express International and Priority Mail International.

Priority Mail International flat rate pricing continues to be available for Flat Rate Envelopes, Small Flat Rate Priced Boxes, and Medium and Large Flat Rate Boxes. New this year, the prices for what was formerly the “all other countries” rate group are being replaced with flat rate prices in seven rate groups, based on geographical regions.

In this filing, we are proposing a structural change in the way insurance is provided and reimbursed for Priority Mail International. Priority Mail International shipments containing merchandise (other than in Priority Mail International Small Flat Rate Priced Boxes and Flat Rate Envelopes) will now be insured against loss, damage, or missing contents up to $200 at no additional charge. Additional insurance coverage up to a maximum of $5,000 (depending on individual country insurance limits) may be purchased at the sender's option. Priority Mail International shipments containing nonnegotiable documents (other than in Priority Mail International Flat Rate Envelopes and Small Flat Rate Priced Boxes) will now be insured against loss, damage, or missing contents up to $100 for document reconstruction at no additional charge. The insurance coverage will be provided on all outbound Priority Mail International shipments accepted at retail or paid for by using postage validation imprinter (PVI) labels, postage meter imprints, USPS-approved PC Postage, Click-N-Ship service postage, or permit imprint.

Electronic USPS Delivery Confirmation International service — abbreviated E-USPS DELCON INTL—is an optional service available for Priority Mail International Flat Rate Envelopes (except for the Gift Card Flat Rate Envelope) and all Small Flat Rate Priced Boxes to select destination countries, for customers using select software or online tools, at no charge. We are adding E-USPS DELCON INTL service to four countries with this price change: Lebanon, Norway, Slovak Republic, and Turkey.

In the May 2015 price change, we created new price zones for Priority Mail International to Canada, based on the distance of the origin ZIP Code to the serving International Service Center (ISC). An ISC Zone Chart is now available for a subscription fee from the National Customer Support Center in Memphis, Tennessee, to support zone-based pricing for Priority Mail International to Canada. The chart will enable mailers to determine the applicable zone, based on the origin ZIP Code. Once the zone and weight of the item are known, the mailer will be able to determine the applicable postage price.

First-Class Package International Service

First-Class Package International Service (FCPIS) is an economical international service for small packages weighing less than 4 pounds and not exceeding $400 in value. The pricing structure for FCPIS will continue to be simpler than for some other international products, with identical prices for 0 to 8 ounces within each country price group, and identical prices for 9 to 32 ounces within each country price group. The price increase for FCPIS averages 21.6 percent. The Commercial Base price for customers that prepare and pay for FCPIS items via permit imprint or by USPS-approved online payment methods will be 5 percent below the retail price. Customers who prepare First-Class Package International Service shipments via Click-N-Ship service will now pay retail prices. Commercial Plus pricing will be available to large volume customers who commit to tendering $100,000 in annual postal revenue for GXG, Priority Mail Express International, Priority Mail International, and First-Class Package International Service.

Electronic USPS Delivery Confirmation International service—abbreviated E-USPS DELCON INTL—is an optional service available for First-Class Package International Service items to select destination countries, for customers using select software or online tools, at no charge. We are adding E-USPS DELCON INTL service to four countries with this price change: Lebanon, Norway, Slovak Republic, and Turkey.

International Priority Airmail and International Surface Air Lift

Published prices for International Priority Airmail (IPA) and International Surface Air Lift (ISAL) will increase by 4.2 percent for IPA and 3.5 percent for IPA M-bags, as well as 6.3 percent for ISAL and 5.3 percent for ISAL M-bags. The structure of IPA and ISAL price categories will continue to be priced by the worldwide and 19 country price groups and applicable mail shapes (letters and postcards, large envelopes [flats], and packages [small packets and rolls]). These categories correspond to the Universal Postal Convention requirements to use shape-based pricing. For IPA and ISAL, the Postal Service offers incentive pricing through International Negotiated Service Agreements (NSAs).

International Priority Airmail (IPA) service, including IPA M-bags, is a bulk commercial service that provides business mailers with rapid and economical worldwide delivery for volume mailings of First-Class Mail International postcards, letters, large envelopes (flats), and FCPIS packages (small packets) weighing up to a maximum 4.4 pounds. IPA is dispatched to the destination country where it is entered into the postal administration's air or surface priority mail system for delivery. The overall price increase for IPA service averages 4.2 percent.

International Surface Air Lift (ISAL) service, including ISAL M-bags, is a bulk commercial service that provides economical worldwide delivery to business mailers of volume mailings of all First-Class Mail International postcards, letters, large envelopes (flats), and FCPIS packages (small packets) weighing up to 4.4 pounds. ISAL is dispatched to the destination country where it is then entered into the postal administration's surface nonpriority network for delivery. The overall price increase for ISAL service averages 6 percent.

Direct Sacks of Printed Matter to One Addressee (Airmail M-Bags)

Airmail M-bags are direct sacks of printed matter sent to a single foreign addressee at a single address. Prices are based on the weight of the sack. The price increase for Airmail M-bags averages 9.2 percent.

International Extra Services and Fees

Depending on country destination and mail type, customers may add a variety of extra services to their outbound shipments. Prices for some of these extra services are increasing:

International Postal Money Orders will increase 5.6 percent.

International Money Order Inquiry Fee will increase 3.5 percent.

International Money Transfer Service will increase 3.3 to 3.7 percent, depending on the rate cell.

List of Subjects in 39 CFR Part 20

Foreign relations, International postal services.

The Postal Service hereby adopts the following changes to Mailing Standards of the United States Postal Service, International Mail Manual (IMM), which is incorporated by reference in the Code of Federal Regulations. See 39 CFR 20.1.

Accordingly, 39 CFR part 20 is amended as follows:

PART 20—[AMENDED]

1. The authority citation for 39 CFR part 20 continues to read as follows:

Authority: 5 U.S.C. 552(a); 13 U.S.C. 301-307; 18 U.S.C. 1692-1737; 39 U.S.C. 101, 401, 403, 404, 407, 414, 416, 3001-3011, 3201-3219, 3403-3406, 3621, 3622, 3626, 3632, 3633, and 5001.

2. Revise the following sections of Mailing Standards of the United States Postal Service, International Mail Manual (IMM), as follows:

* * * * *

Mailing Standards of the United States Postal Service, International Mail Manual (IMM)

* * * * *

1 International Mail Services

* * * * *

130 Mailability

* * * * *

134 Valuable Articles

134.1 Service Options

[Delete distinctions between Priority Mail International service with and without insurance as follows:]

d. Priority Mail International service (except for Priority Mail International Small Flat Rate Priced Boxes and Flat Rate Envelopes).

Note: Priority Mail Express International service cannot be used to send the articles noted in 134.2.

* * * * *

2 Conditions for Mailing

210 Global Express Guaranteed

* * * * *

213 Prices and Postage Payment Methods

* * * * *

213.6 Commercial Prices

* * * * *

213.62 Commercial Plus Prices

213.621 General

[Revise the first sentence to read as follows (eliminating the availability of Commercial Plus prices for users of Click-N-Ship service and eliminating the difference in price between Commercial Base and Commercial Plus prices):]

An approved mailer who pays postage with a permit imprint under 213.8, or through a registered end-user of a USPS-approved PC Postage product (except for Click-N-Ship service), qualifies for the Global Express Guaranteed Commercial Plus prices. * * *

* * * * *

213.7 Online Methods

213.71 Online Prices—Commercial Base or Commercial Plus Prices

[Revise the text to read as follows (eliminating the availability of Commercial Base and Commercial Plus prices for users of Click-N-Ship service service):]

For selected destination countries, Global Express Guaranteed items qualify for discounted prices (equal to the Commercial Base price or Commercial Plus price) when mailers use one of the following online shipping methods:

a. Commercial Base Price: Registered end-users of USPS-approved PC Postage products using online postage (with the exception of Click-N-Ship service); or a USPS meter label solution using metered postage.

b. Commercial Plus Price: Registered end-users of USPS-approved PC Postage products (with the exception of Click-N-Ship service).

Commercial Base and Commercial Plus prices are not available through Click-N-Ship service. The Commercial Base or Commercial Plus price is automatically applied to each shipment when using one of the postage payment methods above. The discount applies only to the postage portion of the Global Express Guaranteed price. It does not apply to any other charges or fees, such as fees for Pickup on Demand service, insurance, or shipments made under a customized agreement.

* * * * *

220 Priority Mail Express International

221 Description and Physical Characteristics

* * * * *

221.3 Priority Mail Express International Flat Rate Envelopes

[Revise the first sentence to read as follows (adding a reference to the rate group):]

Only USPS-produced Priority Mail Express International Flat Rate Envelopes are eligible for the Flat Rate price and are charged a flat rate price depending on the rate group of the destination. * * *

[Delete 221.4 and renumber current 221.5 as 221.4 (there are no other changes except renumbering)]

* * * * *

222 Eligibility

* * * * *

[Delete 222.4, “Priority Mail Express International Flat Rate Boxes,” in its entirety (including Exhibit 222.4), and renumber current 222.5 through 222.8 as 222.4 through 222.7 (there are no other changes except renumbering)]:

* * * * *

223 Prices and Postage Payment Methods

223.1 Prices

223.11 Availability and Price Application—General

[Delete reference to 223.15 to read as follows:]

Except under 223.14, Priority Mail Express International shipments are charged postage for each addressed piece according to its weight and country price group. * * *

* * * * *

223.13 Commercial Plus Prices

[Revise 223.13 to read as follows:]

An approved mailer who pays postage with a permit imprint under 223.222, or as a registered end-user of a USPS-approved PC Postage product (except for Click-N-Ship service), qualifies for the Priority Mail Express International Commercial Plus prices, which are the same as Priority Mail Express International Commercial Base prices. Customers who prepare Priority Mail Express International shipments via Click-N-Ship service pay retail prices. See Notice 123, Price List, for the applicable price.

* * * * *

[Delete 223.15 Priority Mail Express International Flat Rate Boxes Prices in its entirety]

223.2 Postage Payment Methods

* * * * *

223.24 Online Methods

223.241 Online Prices—Commercial Base or Commercial Plus Prices

[Revise the first paragraph to read as follows (eliminating the availability of Commercial Base and Commercial Plus prices for users of Click-N-Ship service):]

For selected destination countries, Priority Mail Express International items qualify for discounted prices (equal to the Commercial Base price or Commercial Plus price) when mailers use one of the following online shipping methods:

a. Commercial Base Price: Registered end-users of USPS-approved PC Postage products using online postage (with the exception of Click-N-Ship service) or a USPS meter label solution using metered postage.

b. Commercial Plus Price: Registered end-users of USPS-approved PC Postage products (with the exception of Click-N-Ship service).

* * * * *

230 Priority Mail International

* * * * *

232 Eligibility

232.1 Priority Mail International Flat Rate Envelopes and Small Flat Rate Priced Boxes

* * * * *

232.12 Electronic USPS Delivery Confirmation International

* * * * *

232.122 Availability

* * * * *

Exhibit 232.122

Countries Accepting Electronic USPS Delivery Confirmation International Service

Note: An asterisk indicates that service was temporarily suspended on June 12, 2014.

[Revise the exhibit to read as follows (adding Lebanon, Norway, Slovak Republic, and Turkey):]

Australia

Belgium

Brazil*

Canada

Croatia

Denmark*

Estonia

Finland

France*

Germany

Gibraltar*

Great Britain and Northern Ireland

Hungary

Israel

Italy*

Latvia

Lebanon

Lithuania

Luxembourg*

Malaysia

Malta

Netherlands

New Zealand

Norway

Portugal*

Singapore

Slovak Republic

Spain

Switzerland

Turkey

* * * * *

232.126 Price Eligibility

[Revise the text to read as follows (eliminating the availability of Commercial Base and Commercial Plus prices for users of Click-N-Ship service):]

Only items paid with USPS-approved PC Postage (with the exception of Click-N-Ship service), permit imprint, or a USPS meter label solution are eligible for the applicable Commercial Base or Commercial Plus price for the postage portion of the mailpiece. Customers using a USPS meter label solution to print shipping labels must apply postage from a meter to be eligible for Commercial Base or Commercial Plus prices. Items with electronically generated customs forms that are not generated with PC Postage, a permit imprint, or a USPS meter label solution (for example, forms electronically generated by Webtools or Click-N-Ship service) are charged the retail price.

* * * * *

232.5 Priority Mail International Parcels

232.51 General

[Replace the next-to-last sentence with the following two sentences to read as follows:]

* * * Priority Mail International parcels containing merchandise are insured against loss, damage, or missing contents up to $200 at no additional charge. Additional insurance may be available, depending on country and value—see Exhibit 322.2 and the Individual Country Listings for insurance availability, limitations, and coverage. * * *

* * * * *

232.6 Customs Forms Required

* * * * *

[Revise the title and text of 232.63 to read as follows (removing references to ordinary and insured parcels):]

232.63 Priority Mail International Parcels

Each Priority Mail International parcel must bear a properly completed PS Form 2976-A.

* * * * *

232.8 Priority Mail International Insurance and Indemnity

232.81 Indemnity

[Revise the first two sentences to read as follows:]

Except for Small Flat Rate Priced Boxes, Priority Mail International parcels containing merchandise are insured against loss, damage, or missing contents up to $200 at no additional charge. Indemnity is limited to the lesser of the actual value of the contents or $200. * * *

[Revise the Note to read as follows:]

Note: Merchandise insurance that provides coverage greater than the included $200 merchandise insurance may be available, depending on country, content, and value—see Exhibit 322.2 and the Individual Country Listings for insurance availability, limitations, and coverage. When merchandise insurance is purchased, it replaces the included $200 merchandise insurance.

232.82 Exclusions

[Revise the entire section to read as follows:]

Insurance coverage is not provided for consequential losses, delay, concealed damage, spoilage of perishable items, articles improperly packaged, articles too fragile to withstand normal handling in the mail, or prohibited articles.

[Delete 232.83 Ordinary Priority Mail International Weight and Indemnity Limits in its entirety (including Exhibit 232.83)]

232.9 Extra Services

232.91 Certificate of Mailing

[Revise the text to read as follows:]

Certificate of mailing service is available for purchase only for Priority Mail International Flat Rate Envelopes and Small Flat Rate Priced Boxes.

232.92 Merchandise Insurance

[Revise the text to read as follows:]

Merchandise insurance that provides coverage greater than the included $200 merchandise insurance is available for Priority Mail International parcels, except Small Flat Rate Priced Boxes, to many countries. When merchandise insurance is purchased, it replaces the included $200 merchandise insurance. See Exhibit 322.2 and the Individual Country Listings for insurance availability, limitations, and coverage. See Notice 123, Price List, for the fee schedule for Priority Mail International merchandise insurance coverage.

* * * * *

233 Prices and Postage Payment Methods

233.1 Prices

233.11 Availability and Price Application—General

[After the current text, add text to read as follows:]

* * * Price zones for Priority Mail International to Canada are based on the distance of the origin ZIP Code to the serving International Service Center (ISC). An ISC Zone Chart is available by subscription from the National Customer Support Center in Memphis. To purchase copies of the Zone Chart, call the Zone Chart program administrator at 800-238-3150 or write to the following address: NATIONAL CUSTOMER SUPPORT CENTER, UNITED STATES POSTAL SERVICE, 225 N HUMPHREYS BLVD STE 501, MEMPHIS TN 38188-1001.

* * * * *

233.13 Commercial Plus Prices

[Revise the first sentence to read as follows (eliminating the distinction between Commercial Base and Commercial Plus prices and excluding Click-N-Ship service):]

An approved mailer who pays postage with a permit imprint under 233.222, or through a registered end-user of a USPS-approved PC Postage product (with the exception of Click-N-Ship service), qualifies for the Priority Mail International Commercial Plus prices.

* * * * *

233.14 Priority Mail International Flat Rate Envelopes and Small Flat Rate Priced Boxes

[Revise the first sentence to read as follows (adding a reference to the rate group):]

Priority Mail International Flat Rate Envelopes and Small Flat Rate Priced Boxes are charged a flat rate price depending on the rate group of the destination. * * *

233.15 Priority Mail International Medium and Large Flat Rate Boxes

[Revise the first sentence to read as follows (adding a reference to the rate group):]

The Priority Mail International Medium and Large Flat Rate Boxes are charged a flat rate price depending on the rate group of the destination. * * *

* * * * *

233.2 Postage Payment Methods

* * * * *

233.22. Permit Imprint

* * * * *

233.222 Permit Imprint—Commercial Base or Commercial Plus

[Revise the first sentence of the text to read as follows (eliminating the distinction between Commercial Base and Commercial Plus prices):]

A mailer who pays postage with a permit imprint qualifies for the Priority Mail International Commercial Base or Commercial Plus prices.

* * * * *

233.23 Online Methods

233.231 Online Prices—Commercial Base or Commercial Plus Prices

[Revise the first paragraph to read as follows (eliminating the availability of Commercial Base and Commercial Plus prices for users of Click-N-Ship service):]

For selected destination countries, Priority Mail International items qualify for discounted prices (equal to the Commercial Base price or Commercial Plus price) when mailers use one of the following online shipping methods:

a. Commercial Base Price: Registered end-users of USPS-approved PC Postage products using online postage (with the exception of Click-N-Ship service); or a USPS meter label solution using metered postage.

b. Commercial Plus Price: Registered end-users of an authorized PC Postage vendor (with the exception of Click-N-Ship service).

* * * * *

250 First-Class Package International Service

* * * * *

252 Eligibility

* * * * *

252.2 Electronic USPS Delivery Confirmation International

* * * * *

252.22 Availability

* * * * *

Exhibit 252.22

Countries Accepting Electronic USPS Delivery Confirmation International Service

Note: An asterisk indicates that service was temporarily suspended on June 12, 2014.

[Revise the exhibit as follows, adding Lebanon, Norway, Slovak Republic, and Turkey:]

Australia

Belgium

Brazil*

Canada

Croatia

Denmark*

Estonia

Finland

France*

Germany

Gibraltar*

Great Britain and Northern Ireland

Hungary

Israel

Italy*

Latvia

Lebanon

Lithuania

Luxembourg*

Malaysia

Malta

Netherlands

New Zealand

Norway

Portugal*

Singapore

Slovak Republic

Spain

Switzerland

Turkey

* * * * *

252.26 Price Eligibility

[Revise the text to read as follows (eliminating the availability of Commercial Base and Commercial Plus prices for users of Click-N-Ship service):]

Only items paid with USPS-approved PC Postage (with the exception of Click-N-Ship service), permit imprint, or a USPS meter label solution are eligible for the applicable Commercial Base or Commercial Plus price for the postage portion of the mailpiece. Customers using a USPS meter label solution to print shipping labels must apply postage from a meter to be eligible for Commercial Base or Commercial Plus prices. Electronically generated customs forms that are not generated with PC Postage (with the exception of Click-N-Ship service), a permit imprint, or a USPS meter label solution (for example, forms electronically generated by Webtools) are charged the retail price.

* * * * *

253 Prices and Postage Payment Methods

253.1 Prices

* * * * *

253.15 Commercial Plus Prices

[Revise the first sentence to read as follows (eliminating the distinction between Commercial Base and Commercial Plus prices and the availability of Commercial Plus Prices for users of Click-N-Ship service):]

An approved mailer who pays postage with a permit imprint under 253.222, or through a registered end-user of a USPS-approved PC Postage product (with the exception of Click-N-Ship service), qualifies for the First-Class Package International Service Commercial Plus prices. * * *

* * * * *

253.2 Postage Payment Methods

* * * * *

253.23 Online Methods

253.231 Online Prices—Commercial Base or Commercial Plus Prices

[Revise the first paragraph to read as follows (eliminating the availability of Commercial Base and Commercial Plus Prices for users of Click-N-Ship service):]

For selected destination countries, First-Class Package International Service items qualify for discounted prices (equal to the Commercial Base price or Commercial Plus price) when mailers use one of the following online shipping methods:

a. Commercial Base Price: Registered end-users of USPS-approved PC Postage products (with the exception of Click-N-Ship service) using online postage; or a USPS meter label solution using metered postage.

b. Commercial Plus Price: Registered end-users of an authorized PC Postage vendor (with the exception of Click-N-Ship service).

* * * * *

3 Extra Services

310 Certificate of Mailing

311 Individual Pieces

* * * * *

311.2 Availability

311.21 At Time of Purchase

A customer may purchase a certificate of mailing (individual pieces) when sending the following:

[Delete item f and renumber item g as item f]

* * * * *

320 Insurance

* * * * *

323 Priority Mail International Insurance

323.1 Description

[Revise the text to read as follows:]

Insurance is not available for Priority Mail International Flat Rate Envelopes or Small Flat Rate Priced Boxes. Priority Mail International shipments containing merchandise are insured against loss, damage, or missing contents up to $200 at no additional charge. Priority Mail International shipments containing only nonnegotiable documents are insured against loss, damage, or missing contents up to $100 for document reconstruction at no additional charge. Indemnity is paid by the U.S. Postal Service as provided in 933. For a fee, the sender may purchase additional insurance to protect against loss, damage, or missing contents for Priority Mail International parcels containing merchandise. Additional document reconstruction insurance may not be purchased. If the parcel has been lost, or if it has been delivered to the addressee in damaged condition or with missing contents, payment is made to the sender unless the sender waives the right to payment, in writing, in favor of the addressee.

323.2 Availability

[Revise first sentence to read as follows (including a reference to Medium and Large Flat Rate Boxes):]

Merchandise insurance above the included $200 amount is available only for Priority Mail International parcels (including Medium and Large Flat Rate Boxes) and only to certain countries. * * *

323.3 Coverage and Fees

[Revise the text to read as follows (adding references to additional merchandise insurance):]

Additional merchandise insurance coverage above the included $200—up to the maximum amount allowed by the country (see Exhibit 322.2) but never to exceed $5,000—may be purchased at the sender's option. The insurance fee is in addition to postage and other applicable fees and is based on the insured value. See Notice 123, Price List, for the fee schedule for optional Priority Mail International merchandise insurance coverage.

* * * * *

323.6 Preparation of Insured Priority Mail International Parcels

* * * * *

323.62 Accepting Clerk's Responsibility

The accepting clerk must do the following:

[Revise items a through c to read as follows and delete Exhibit 323.62 in its entirety:]

a. When additional insurance has been purchased, indicate on PS Form 2976-A the amount for which the parcel is insured. Write the amount in U.S. dollars in ink in the “Insured Amount (U.S. $)” block.

b. When additional insurance has been purchased, as an indicator write a bold capital “V” in the space provided adjacent to the boxes for Insured Amount and Insurance Fees.

c. Round stamp PS Form 2976-A in the appropriate place on each copy.

* * * * *

9 Inquiries, Indemnities, and Refunds

* * * * *

930 Indemnity Payments

* * * * *

[Revise the title of 932 to read as follows (removing the distinction between insured and ordinary parcels):]

932 General Exceptions to Payment—Registered Mail and Priority Mail International Parcels

* * * * *

[Revise the title of 933 to read as follows (removing the distinction between insured and ordinary parcels):]

933 Payments for Priority Mail International Parcels

933.1 General Provisions

[Revise the title of 933.11 to read as follows (removing the reference to insured parcels):]

933.11 Payment of Indemnity

[Insert a new paragraph at the beginning of 933.11 to read as follows:]

Priority Mail International shipments are covered by document reconstruction and merchandise insurance in case of loss, damage, or missing contents. Indemnity will be paid by the Postal Service as specified in DMM 503.4 and 609, subject to the exclusions in IMM 933.12.

* * * * *

[Revise the title of 933.13 to read as follows (removing the reference to ordinary parcels):]

933.13 Priority Mail International Parcels—Indemnity Limitations

[Revise the text to read as follows:]

When additional merchandise insurance has not been purchased, coverage is limited to the actual value of the contents or $200, whichever is less. Document reconstruction insurance is limited to the actual cost of document reconstruction or $100, whichever is less.

[Revise the title of 933.14 to read as follows (removing the reference to ordinary parcels):]

933.14 Priority Mail International Parcels—Exceptions to Indemnity

* * * * *

Country Price Groups and Weight Limits

[Revise the text and table to read as follows (adding columns to Priority Mail Express International and Priority Mail International to show price groups for Flat Rate products; editing, combining, and reordering current footnotes, including removing a separate footnote for Cuba regarding conditions that can be found in Cuba's Individual Country Listing and in Publication 699, Special Requirements for Shipping Internationally; and adding a new entry for Bonaire, Sint Eustatius, and Saba):]

Listed below are the countries and their price groups and weight limits for the five principal categories of international mail. Complete tables of prices are available in Notice 123, Price List.

n/a = Service is not available.

¹ Priority Mail Express International Flat Rate Envelopes maximum weight: 4 lbs.

² Priority Mail International Flat Rate Service maximum weights: Flat Rate Envelopes and Small Flat Rate Priced Boxes, 4 lbs.; Medium and Large Flat Rate Boxes, 20 lbs.

³ First-Class Mail International maximum weights: Letters, 3.5 ozs.; Large Envelopes (flats), 4 lbs. Note that the heading in the maximum weight column lists both ounces and pounds (“ozs./lbs.”) and that there are two numbers in the entry for each country (“3.5/4”)—this indicates that the maximum weight for Letters is 3.5 ozs., and that the maximum weight for Large Envelopes (flats) is 4 lbs. For First-Class Package International Service, the maximum weight is 4 lbs.

⁴ Ascension, Bolivia, Cuba, and the Falkland Islands: Only Priority Mail International Flat Rate Envelopes and Small Flat Rate Priced Boxes (maximum weight: 4 lbs. each) may be used.

⁵ Korea, Democratic People's Republic of (North Korea): Only Priority Mail International Flat Rate Envelopes (maximum weight: 4 lbs.) may be used. Dutiable items and merchandise are prohibited.

Country | Global Express Guaranteed: Price group | Global Express Guaranteed: Max. wt. (lbs.) | Priority Mail Express International: Price group | Priority Mail Express International: Max. wt. (lbs.) | Priority Mail Express International: PMEI Flat Rate Envelopes price group ¹ | Priority Mail International: Price group | Priority Mail International: Max. wt. (ozs./lbs.) | Priority Mail International: PMI Flat Rate Envelopes and Boxes price group ² | First-Class Mail International and First-Class Package International Service: Price group | First-Class Mail International and First-Class Package International Service: Max. wt. (ozs./lbs.) ³
Afghanistan | 6 | 70 | n/a | n/a | n/a | 6 | 66 | 8 | 6 | 3.5/4
Albania | 4 | 70 | 4 | 66 | 8 | 4 | 44 | 8 | 4 | 3.5/4
Algeria | 4 | 70 | 8 | 44 | 8 | 8 | 44 | 8 | 8 | 3.5/4
Andorra | 5 | 4 | 5 | 66 | 8 | 5 | 66 | 8 | 5 | 3.5/4
Angola | 4 | 70 | 7 | 44 | 8 | 7 | 44 | 8 | 7 | 3.5/4
Anguilla | 7 | 70 | 9 | 55 | 8 | 9 | 22 | 8 | 9 | 3.5/4
Antigua and Barbuda | 7 | 70 | n/a | n/a | n/a | 9 | 22 | 8 | 9 | 3.5/4
Argentina | 8 | 70 | 9 | 44 | 2 | 9 | 44 | 2 | 9 | 3.5/4
Armenia | 4 | 70 | 4 | 44 | 8 | 4 | 44 | 8 | 4 | 3.5/4
Aruba | 7 | 70 | 9 | 44 | 8 | 9 | 44 | 8 | 9 | 3.5/4
Ascension ⁴ | n/a | n/a | n/a | n/a | n/a | n/a | 4 | 8 | 7 | 3.5/4
Australia | 6 | 70 | 10 | 66 | 6 | 10 | 66 | 6 | 3 | 3.5/4
Austria | 5 | 70 | 5 | 66 | 4 | 5 | 66 | 4 | 5 | 3.5/4
Azerbaijan | 4 | 70 | 4 | 70 | 8 | 4 | 70 | 8 | 4 | 3.5/4
Bahamas | 7 | 70 | 9 | 22 | 8 | 9 | 22 | 8 | 9 | 3.5/4
Bahrain | 6 | 70 | 8 | 44 | 8 | 8 | 44 | 8 | 8 | 3.5/4
Bangladesh | 6 | 70 | 6 | 44 | 8 | 6 | 44 | 8 | 6 | 3.5/4
Barbados | 7 | 70 | 9 | 66 | 8 | 9 | 44 | 8 | 9 | 3.5/4
Belarus | 4 | 70 | 4 | 44 | 8 | 4 | 66 | 8 | 4 | 3.5/4
Belgium | 3 | 70 | 5 | 66 | 4 | 5 | 66 | 4 | 5 | 3.5/4
Belize | 8 | 70 | 9 | 66 | 8 | 9 | 44 | 8 | 9 | 3.5/4
Benin | 4 | 70 | 7 | 66 | 8 | 7 | 66 | 8 | 7 | 3.5/4
Bermuda | 7 | 70 | 9 | 44 | 8 | 9 | 44 | 8 | 9 | 3.5/4
Bhutan | 6 | 70 | 6 | 66 | 8 | 6 | 66 | 8 | 6 | 3.5/4
Bolivia ⁴ | 8 | 70 | 9 | 66 | 2 | n/a | 4 | 2 | 9 | 3.5/4
Bonaire, Sint Eustatius, and Saba | 7 | 70 | 9 | 66 | 8 | 9 | 44 | 8 | 9 | 3.5/4
Bosnia-Herzegovina | 4 | 70 | 4 | 66 | 8 | 4 | 44 | 8 | 4 | 3.5/4
Botswana | 4 | 70 | 7 | 66 | 8 | 7 | 66 | 8 | 7 | 3.5/4
Brazil | 8 | 70 | 15 | 66 | 2 | 15 | 66 | 2 | 9 | 3.5/4
British Virgin Islands | 7 | 70 | n/a | n/a | n/a | 9 | 44 | 8 | 9 | 3.5/4
Brunei Darussalam | 4 | 70 | 6 | 66 | 8 | 6 | 44 | 8 | 6 | 3.5/4
Bulgaria | 4 | 70 | 4 | 66 | 8 | 4 | 70 | 8 | 4 | 3.5/4
Burkina Faso | 4 | 70 | 7 | 70 | 8 | 7 | 66 | 8 | 7 | 3.5/4
Burma (Myanmar) | n/a | n/a | 6 | 44 | 8 | 6 | 22 | 8 | 6 | 3.5/4
Burundi | 4 | 70 | 7 | 66 | 8 | 7 | 66 | 8 | 7 | 3.5/4
Cambodia (Kampuchea) | 8 | 70 | 6 | 66 | 8 | 6 | 66 | 8 | 6 | 3.5/4
Cameroon | 4 | 70 | 7 | 44 | 8 | 7 | 66 | 8 | 7 | 3.5/4
Canada | 1 | 70 | 1 | 66 | 1 | 1 | 66 | 1 | 1 | 3.5/4
Cape Verde | 4 | 70 | 7 | 66 | 8 | 7 | 44 | 8 | 7 | 3.5/4
Cayman Islands | 7 | 70 | 9 | 44 | 8 | 9 | 44 | 8 | 9 | 3.5/4
Central African Republic | n/a | n/a | 7 | 66 | 8 | 7 | 66 | 8 | 7 | 3.5/4
Chad | 4 | 70 | 7 | 66 | 8 | 7 | 44 | 8 | 7 | 3.5/4
Chile | 8 | 70 | 9 | 66 | 2 | 9 | 44 | 2 | 9 | 3.5/4
China | 6 | 70 | 14 | 66 | 3 | 14 | 66 | 3 | 3 | 3.5/4
Colombia | 8 | 70 | 9 | 44 | 2 | 9 | 66 | 2 | 9 | 3.5/4
Comoros | n/a | n/a | n/a | n/a | n/a | 7 | 44 | 8 | 7 | 3.5/4
Congo, Democratic Republic of the | 4 | 66 | 7 | 66 | 8 | 7 | 66 | 8 | 7 | 3.5/4
Congo, Republic of the | 4 | 70 | 7 | 66 | 8 | 7 | 44 | 8 | 7 | 3.5/4
Costa Rica | 8 | 70 | 9 | 66 | 8 | 9 | 66 | 8 | 9 | 3.5/4
Cote d'Ivoire (Ivory Coast) | 4 | 70 | 7 | 66 | 8 | 7 | 66 | 8 | 7 | 3.5/4
Croatia | 4 | 70 | 4 | 66 | 8 | 4 | 66 | 8 | 4 | 3.5/4
Cuba ⁴ | n/a | n/a | n/a | n/a | n/a | n/a | 4 | 8 | 9 | 3.5/4
Curacao | 7 | 70 | 9 | 66 | 8 | 9 | 44 | 8 | 9 | 3.5/4
Cyprus | 6 | 70 | 4 | 70 | 8 | 4 | 70 | 8 | 4 | 3.5/4
Czech Republic | 4 | 70 | 4 | 70 | 8 | 4 | 70 | 8 | 4 | 3.5/4
Denmark | 5 | 70 | 5 | 66 | 4 | 5 | 66 | 4 | 5 | 3.5/4
Djibouti | 4 | 70 | 7 | 44 | 8 | 7 | 44 | 8 | 7 | 3.5/4
Dominica | 7 | 70 | 9 | 44 | 8 | 9 | 44 | 8 | 9 | 3.5/4
Dominican Republic | 7 | 70 | 9 | 66 | 2 | 9 | 44 | 2 | 9 | 3.5/4
Ecuador | 8 | 70 | 9 | 66 | 2 | 9 | 66 | 2 | 9 | 3.5/4
Egypt | 6 | 70 | 8 | 44 | 7 | 8 | 66 | 7 | 8 | 3.5/4
El Salvador | 8 | 70 | 9 | 66 | 8 | 9 | 44 | 8 | 9 | 3.5/4
Equatorial Guinea | n/a | n/a | 7 | 44 | 8 | 7 | 22 | 8 | 7 | 3.5/4
Eritrea | 4 | 70 | 7 | 66 | 8 | 7 | 44 | 8 | 7 | 3.5/4
Estonia | 4 | 70 | 4 | 66 | 8 | 4 | 70 | 8 | 4 | 3.5/4
Ethiopia | 4 | 70 | 8 | 66 | 8 | 8 | 66 | 8 | 8 | 3.5/4
Falkland Islands ⁴ | n/a | n/a | n/a | n/a | n/a | n/a | 4 | 8 | 9 | 3.5/4
Faroe Islands | 5 | 70 | 5 | 44 | 8 | 5 | 70 | 8 | 5 | 3.5/4
Fiji | 8 | 70 | 6 | 66 | 8 | 6 | 44 | 8 | 6 | 3.5/4
Finland | 5 | 70 | 5 | 66 | 4 | 5 | 70 | 4 | 5 | 3.5/4
France | 3 | 70 | 13 | 66 | 4 | 13 | 66 | 4 | 5 | 3.5/4
French Guiana | 8 | 70 | 9 | 66 | 8 | 9 | 66 | 8 | 9 | 3.5/4
French Polynesia | 4 | 70 | 6 | 66 | 8 | 6 | 66 | 8 | 6 | 3.5/4
Gabon | 4 | 70 | 7 | 66 | 8 | 7 | 44 | 8 | 7 | 3.5/4
Gambia | 4 | 70 | n/a | n/a | n/a | 7 | 66 | 8 | 7 | 3.5/4
Georgia, Republic of | 4 | 70 | 4 | 66 | 8 | 4 | 44 | 8 | 4 | 3.5/4
Germany | 3 | 70 | 16 | 66 | 4 | 16 | 70 | 4 | 5 | 3.5/4
Ghana | 4 | 70 | 7 | 66 | 8 | 7 | 66 | 8 | 7 | 3.5/4
Gibraltar | 4 | 70 | n/a | n/a | n/a | 5 | 44 | 8 | 5 | 3.5/4
Great Britain and Northern Ireland | 3 | 70 | 11 | 66 | 4 | 11 | 66 | 4 | 5 | 3.5/4
Greece | 5 | 70 | 5 | 66 | 8 | 5 | 44 | 8 | 5 | 3.5/4
Greenland | 5 | 70 | n/a | n/a | n/a | 5 | 66 | 8 | 5 | 3.5/4
Grenada | 7 | 70 | 9 | 66 | 8 | 9 | 44 | 8 | 9 | 3.5/4
Guadeloupe | 7 | 70 | 9 | 66 | 8 | 9 | 66 | 8 | 9 | 3.5/4
Guatemala | 8 | 70 | 9 | 66 | 2 | 9 | 44 | 2 | 9 | 3.5/4
Guinea | 4 | 70 | 7 | 44 | 8 | 7 | 66 | 8 | 7 | 3.5/4
Guinea-Bissau | n/a | n/a | 7 | 44 | 8 | 7 | 66 | 8 | 7 | 3.5/4
Guyana | 8 | 70 | 9 | 66 | 2 | 9 | 44 | 2 | 9 | 3.5/4
Haiti | 7 | 70 | 9 | 66 | 8 | 9 | 55 | 8 | 9 | 3.5/4
Honduras | 8 | 70 | 9 | 44 | 8 | 9 | 44 | 8 | 9 | 3.5/4
Hong Kong | 3 | 70 | 3 | 66 | 3 | 3 | 66 | 3 | 3 | 3.5/4
Hungary | 4 | 70 | 4 | 66 | 8 | 4 | 44 | 8 | 4 | 3.5/4
Iceland | 5 | 70 | 5 | 66 | 8 | 5 | 70 | 8 | 5 | 3.5/4
India | 6 | 70 | 6 | 70 | 5 | 6 | 44 | 5 | 6 | 3.5/4
Indonesia | 6 | 70 | 6 | 66 | 3 | 6 | 44 | 3 | 6 | 3.5/4
Iran | n/a | n/a | n/a | n/a | n/a | 8 | 44 | 8 | 8 | 3.5/4
Iraq | 6 | 70 | 8 | 44 | 7 | 8 | 44 | 7 | 8 | 3.5/4
Ireland | 3 | 70 | 5 | 66 | 4 | 5 | 66 | 4 | 5 | 3.5/4
Israel | 6 | 70 | 8 | 44 | 7 | 8 | 44 | 7 | 5 | 3.5/4
Italy | 3 | 70 | 5 | 66 | 4 | 5 | 66 | 4 | 5 | 3.5/4
Jamaica | 7 | 70 | 9 | 66 | 8 | 9 | 22 | 8 | 9 | 3.5/4
Japan | 3 | 70 | 12 | 66 | 3 | 12 | 66 | 3 | 3 | 3.5/4
Jordan | 6 | 70 | 8 | 66 | 7 | 8 | 66 | 7 | 8 | 3.5/4
Kazakhstan | 4 | 70 | 6 | 66 | 8 | 6 | 44 | 8 | 6 | 3.5/4
Kenya | 4 | 70 | 7 | 70 | 8 | 7 | 70 | 8 | 7 | 3.5/4
Kiribati | n/a | n/a | 6 | 66 | 8 | 6 | 44 | 8 | 6 | 3.5/4
Korea, Democratic People's Republic of (North Korea) ⁵ | n/a | n/a | n/a | n/a | n/a | n/a | 4 | 8 | 6 | 3.5/4
Korea, Republic of (South Korea) | 6 | 70 | 3 | 66 | 3 | 3 | 44 | 3 | 3 | 3.5/4
Kosovo, Republic of | 4 | 70 | n/a | n/a | n/a | 5 | 70 | 8 | 5 | 3.5/4
Kuwait | 6 | 70 | 8 | 66 | 8 | 8 | 66 | 8 | 8 | 3.5/4
Kyrgyzstan | 4 | 70 | 6 | 66 | 8 | 6 | 44 | 8 | 6 | 3.5/4
Laos | 8 | 70 | 6 | 66 | 8 | 6 | 44 | 8 | 6 | 3.5/4
Latvia | 4 | 70 | 4 | 66 | 8 | 4 | 70 | 8 | 4 | 3.5/4
Lebanon | 6 | 70 | 8 | 66 | 8 | 8 | 66 | 8 | 8 | 3.5/4
Lesotho | 4 | 70 | 7 | 66 | 8 | 7 | 44 | 8 | 7 | 3.5/4
Liberia | 4 | 70 | 7 | 44 | 8 | 7 | 44 | 8 | 7 | 3.5/4
Libya | 4 | 70 | n/a | n/a | n/a | 8 | 44 | 8 | 8 | 3.5/4
Liechtenstein | 5 | 70 | 5 | 66 | 8 | 5 | 66 | 8 | 5 | 3.5/4
Lithuania | 4 | 70 | 4 | 70 | 8 | 4 | 70 | 8 | 4 | 3.5/4
Luxembourg | 3 | 70 | 5 | 66 | 4 | 5 | 66 | 4 | 5 | 3.5/4
Macao | 3 | 70 | 6 | 44 | 8 | 6 | 70 | 8 | 6 | 3.5/4
Macedonia (Republic of) | 4 | 70 | 4 | 66 | 8 | 4 | 70 | 8 | 4 | 3.5/4
Madagascar | 4 | 70 | 7 | 66 | 8 | 7 | 44 | 8 | 7 | 3.5/4
Malawi | 4 | 70 | 7 | 44 | 8 | 7 | 66 | 8 | 7 | 3.5/4
Malaysia | 6 | 70 | 6 | 66 | 8 | 6 | 66 | 8 | 6 | 3.5/4
Maldives | 6 | 70 | 6 | 66 | 8 | 6 | 66 | 8 | 6 | 3.5/4
Mali | 4 | 70 | 7 | 66 | 8 | 7 | 66 | 8 | 7 | 3.5/4
Malta | 5 | 70 | 5 | 44 | 8 | 5 | 66 | 8 | 5 | 3.5/4
Martinique | 7 | 70 | 9 | 66 | 8 | 9 | 66 | 8 | 9 | 3.5/4
Mauritania | 4 | 70 | 7 | 66 | 8 | 7 | 44 | 8 | 7 | 3.5/4
Mauritius | 4 | 70 | 7 | 66 | 8 | 7 | 44 | 8 | 7 | 3.5/4
Mexico | 2 | 70 | 2 | 70 | 2 | 2 | 70 | 2 | 2 | 3.5/4
Moldova | 4 | 70 | 4 | 70 | 8 | 4 | 70 | 8 | 4 | 3.5/4
Mongolia | 4 | 70 | 6 | 66 | 3 | 6 | 66 | 3 | 6 | 3.5/4
Montenegro | 4 | 70 | n/a | n/a | n/a | 5 | 70 | 8 | 5 | 3.5/4
Montserrat | 7 | 70 | n/a | n/a | n/a | 9 | 44 | 8 | 9 | 3.5/4
Morocco | 4 | 70 | 8 | 68 | 8 | 8 | 66 | 8 | 8 | 3.5/4
Mozambique | 4 | 70 | 7 | 66 | 8 | 7 | 66 | 8 | 7 | 3.5/4
Namibia | 4 | 70 | 7 | 22 | 8 | 7 | 44 | 8 | 7 | 3.5/4
Nauru | n/a | n/a | 6 | 44 | 8 | 6 | 44 | 8 | 6 | 3.5/4
Nepal | 6 | 70 | 6 | 69 | 8 | 6 | 44 | 8 | 6 | 3.5/4
Netherlands | 3 | 70 | 17 | 66 | 4 | 17 | 66 | 4 | 5 | 3.5/4
New Caledonia | 8 | 70 | 6 | 66 | 8 | 6 | 66 | 8 | 6 | 3.5/4
New Zealand | 6 | 70 | 10 | 66 | 6 | 10 | 66 | 6 | 6 | 3.5/4
Nicaragua | 8 | 70 | 9 | 55 | 8 | 9 | 66 | 8 | 9 | 3.5/4
Niger | 4 | 70 | 7 | 70 | 8 | 7 | 70 | 8 | 7 | 3.5/4
Nigeria | 4 | 70 | 7 | 66 | 8 | 7 | 66 | 8 | 7 | 3.5/4
Norway | 5 | 70 | 5 | 66 | 4 | 5 | 66 | 4 | 5 | 3.5/4
Oman | 6 | 70 | 8 | 66 | 8 | 8 | 44 | 8 | 8 | 3.5/4
Pakistan | 6 | 70 | 6 | 66 | 8 | 6 | 70 | 8 | 6 | 3.5/4
Panama | 8 | 70 | 9 | 66 | 8 | 9 | 70 | 8 | 9 | 3.5/4
Papua New Guinea | 8 | 70 | 6 | 55 | 8 | 6 | 44 | 8 | 6 | 3.5/4
Paraguay | 8 | 70 | 9 | 55 | 2 | 9 | 66 | 2 | 9 | 3.5/4
Peru | 8 | 70 | 9 | 70 | 2 | 9 | 70 | 2 | 9 | 3.5/4
Philippines | 6 | 70 | 6 | 44 | 3 | 6 | 44 | 3 | 6 | 3.5/4
Pitcairn Island | n/a | n/a | n/a | n/a | n/a | 6 | 22 | 8 | 6 | 3.5/4
Poland | 4 | 70 | 4 | 44 | 8 | 4 | 44 | 8 | 4 | 3.5/4
Portugal | 5 | 70 | 5 | 66 | 4 | 5 | 66 | 4 | 5 | 3.5/4
Qatar | 6 | 70 | 8 | 66 | 8 | 8 | 70 | 8 | 8 | 3.5/4
Reunion | 4 | 70 | n/a | n/a | n/a | 9 | 66 | 8 | 9 | 3.5/4
Romania | 4 | 70 | 4 | 70 | 8 | 4 | 70 | 8 | 4 | 3.5/4
Russia | 4 | 70 | 4 | 70 | 8 | 4 | 44 | 8 | 4 | 3.5/4
Rwanda | 4 | 70 | 7 | 66 | 8 | 7 | 66 | 8 | 7 | 3.5/4
Saint Helena | n/a | n/a | n/a | n/a | n/a | 7 | 44 | 8 | 7 | 3.5/4
Saint Kitts and Nevis | 7 | 70 | 9 | 66 | 8 | 9 | 44 | 8 | 9 | 3.5/4
Saint Lucia | 7 | 70 | 9 | 44 | 8 | 9 | 44 | 8 | 9 | 3.5/4
Saint Pierre and Miquelon | n/a | n/a | n/a | n/a | n/a | 4 | 66 | 8 | 4 | 3.5/4
Saint Vincent and the Grenadines | 7 | 70 | 9 | 44 | 8 | 9 | 22 | 8 | 9 | 3.5/4
Samoa | n/a | n/a | 6 | 44 | 8 | 6 | 44 | 8 | 6 | 3.5/4
San Marino | 3 | 70 | 5 | 66 | 8 | 5 | 66 | 8 | 5 | 3.5/4
Sao Tome and Principe | n/a | n/a | 7 | 66 | 8 | 7 | 44 | 8 | 7 | 3.5/4
Saudi Arabia | 4 | 70 | 8 | 66 | 7 | 8 | 66 | 7 | 8 | 3.5/4
Senegal | 4 | 70 | 7 | 66 | 8 | 7 | 66 | 8 | 7 | 3.5/4
Serbia, Republic of | 4 | 70 | 5 | 66 | 8 | 5 | 70 | 8 | 5 | 3.5/4
Seychelles | 4 | 70 | 7 | 66 | 8 | 7 | 70 | 8 | 7 | 3.5/4
Sierra Leone | n/a | n/a | 7 | 66 | 8 | 7 | 66 | 8 | 7 | 3.5/4
Singapore | 3 | 70 | 6 | 66 | 3 | 6 | 66 | 3 | 6 | 3.5/4
Sint Maarten | 7 | 70 | 9 | 66 | 8 | 9 | 44 | 8 | 9 | 3.5/4
Slovak Republic (Slovakia) | 4 | 70 | 5 | 66 | 4 | 5 | 66 | 4 | 5 | 3.5/4
Slovenia | 4 | 70 | 5 | 66 | 4 | 5 | 66 | 4 | 5 | 3.5/4
Solomon Islands | n/a | n/a | 6 | 66 | 8 | 6 | 44 | 8 | 6 | 3.5/4
Somalia | n/a | n/a | n/a | n/a | n/a | n/a | n/a | n/a | n/a | n/a
South Africa | 4 | 70 | 7 | 66 | 8 | 7 | 66 | 8 | 7 | 3.5/4
Spain | 5 | 70 | 5 | 66 | 4 | 5 | 44 | 4 | 5 | 3.5/4
Sri Lanka | 6 | 70 | 6 | 66 | 8 | 6 | 66 | 8 | 6 | 3.5/4
Sudan | n/a | n/a | 7 | 66 | 8 | 7 | 44 | 8 | 7 | 3.5/4
Suriname | 8 | 70 | n/a | n/a | n/a | 9 | 44 | 8 | 9 | 3.5/4
Swaziland | 4 | 70 | 7 | 66 | 8 | 7 | 44 | 8 | 7 | 3.5/4
Sweden | 5 | 70 | 5 | 66 | 4 | 5 | 66 | 4 | 5 | 3.5/4
Switzerland | 5 | 70 | 5 | 66 | 4 | 5 | 66 | 4 | 5 | 3.5/4
Syrian Arab Republic (Syria) | n/a | n/a | 8 | 44 | 8 | 8 | 70 | 8 | 8 | 3.5/4
Taiwan | 3 | 70 | 6 | 33 | 8 | 6 | 44 | 8 | 6 | 3.5/4
Tajikistan | n/a | n/a | 6 | 66 | 8 | 6 | 66 | 8 | 6 | 3.5/4
Tanzania | 4 | 70 | 7 | 66 | 8 | 7 | 66 | 8 | 7 | 3.5/4
Thailand | 6 | 70 | 6 | 66 | 3 | 6 | 66 | 3 | 6 | 3.5/4
Timor-Leste, Democratic Republic of | 6 | 70 | n/a | n/a | n/a | 6 | 44 | 8 | 6 | 3.5/4
Togo | 4 | 70 | 7 | 66 | 8 | 7 | 70 | 8 | 7 | 3.5/4
Tonga | 4 | 70 | 6 | 66 | 8 | 6 | 44 | 8 | 6 | 3.5/4
Trinidad and Tobago | 7 | 70 | 9 | 66 | 8 | 9 | 44 | 8 | 9 | 3.5/4
Tristan da Cunha | n/a | n/a | n/a | n/a | n/a | 7 | 22 | 8 | 7 | 3.5/4
Tunisia | 4 | 70 | 8 | 66 | 8 | 8 | 66 | 8 | 8 | 3.5/4
Turkey | 6 | 70 | 4 | 66 | 7 | 4 | 66 | 7 | 4 | 3.5/4
Turkmenistan | n/a | n/a | 6 | 66 | 8 | 6 | 44 | 8 | 6 | 3.5/4
Turks and Caicos Islands | 7 | 70 | 9 | 66 | 8 | 9 | 44 | 8 | 9 | 3.5/4
Tuvalu | n/a | n/a | n/a | n/a | n/a | 6 | 55 | 8 | 6 | 3.5/4
Uganda | 4 | 70 | 7 | 66 | 8 | 7 | 66 | 8 | 7 | 3.5/4
Ukraine | 4 | 70 | 4 | 44 | 8 | 4 | 66 | 8 | 4 | 3.5/4
United Arab Emirates | 6 | 70 | 8 | 70 | 7 | 8 | 70 | 7 | 8 | 3.5/4
Uruguay | 8 | 70 | 9 | 44 | 2 | 9 | 66 | 2 | 9 | 3.5/4
Uzbekistan | 4 | 70 | 6 | 66 | 8 | 6 | 70 | 8 | 6 | 3.5/4
Vanuatu | 8 | 70 | 6 | 55 | 8 | 6 | 44 | 8 | 6 | 3.5/4
Vatican City | 3 | 70 | 5 | 66 | 8 | 5 | 44 | 8 | 5 | 3.5/4
Venezuela | 8 | 70 | 9 | 66 | 2 | 9 | 66 | 2 | 9 | 3.5/4
Vietnam | 6 | 70 | 6 | 66 | 3 | 6 | 70 | 3 | 6 | 3.5/4
Wallis and Futuna Islands | 4 | 70 | n/a | n/a | n/a | 6 | 66 | 8 | 6 | 3.5/4
Yemen | 6 | 70 | 8 | 66 | 7 | 8 | 66 | 7 | 8 | 3.5/4
Zambia | 4 | 70 | 7 | 66 | 8 | 7 | 66 | 8 | 7 | 3.5/4
Zimbabwe | 4 | 70 | 7 | 44 | 8 | 7 | 44 | 8 | 7 | 3.5/4

* * * * *

Individual Country Listings

Country Conditions for Mailing

* * * * *

Priority Mail Express International (220)

* * * * *

[For every country listing that contains Priority Mail Express International—Flat Rate Envelopes and Flat Rate Boxes, remove Flat Rate Boxes from the heading and the text, to read as follows:]

Priority Mail Express International—Flat Rate Envelopes

Flat Rate Envelopes: The maximum weight is 4 pounds. Refer to Notice 123, Price List, for the applicable retail, Commercial Base, or Commercial Plus price.

* * * * *

Priority Mail International (230)

[For every country listing that includes a Note about ordinary Priority Mail International including indemnity at no cost, remove the note.]

* * * * *

We will publish an appropriate amendment to 39 CFR part 20 to reflect these changes.

Stanley F. Mires,
Attorney, Federal Compliance.

[FR Doc. 2015-26918 Filed 10-23-15; 8:45 am]

BILLING CODE 7710-12-P